DEPARTMENT OF ENERGY

Federal Energy Regulatory Commission

[Docket No. RM10-23-000]

Transmission Planning and Cost Allocation by Transmission Owning and Operating Public Utilities; Notice of Staff Informational Conferences

Take notice that Commission staff will convene three informational conferences to discuss the requirements of Order No. 1000.¹ The Commission directed its staff to hold the informational conferences to assist public utility transmission providers in their efforts to comply with Order No. 1000.²

¹ Transmission Planning and Cost Allocation by Transmission Owning and Operating Public Utilities, Order No. 1000, 76 FR 49,842 (Aug. 11, 2011), 136 FERC ¶ 61,051 (2011).

² Id. P 14.

The first informational conference will be held on Monday, September 12, 2011, beginning at 1 p.m. (EDT) and will focus on compliance issues related to Regional Transmission Organizations (RTOs) and Independent System Operators (ISOs). The first informational conference is scheduled to end by 4 p.m. (EDT).

The second informational conference will be held on Tuesday, September 13, 2011, beginning at 9 a.m. (EDT) and will focus on compliance issues related to non-RTO/ISO regions in the Eastern Interconnection. The second informational conference is scheduled to end by 12 p.m. (EDT).

The third informational conference will also be held on Tuesday, September 13, 2011, beginning at 1 p.m. (EDT) and will focus on compliance issues related to non-RTO/ISO regions in the Western Interconnection. The third informational conference is scheduled to end by 4 p.m. (EDT).

All of the informational conferences will be held in the Commission Meeting Room at the Commission's Washington, DC headquarters, 888 First Street, NE. Commission staff will lead the informational conferences and give presentations on various aspects of Order No. 1000. All interested parties are invited to attend and there will be an opportunity to ask questions.

A free webcast of the informational conferences will be available through the FERC Web site. Anyone with Internet access that is interested in viewing the webcast of an informational conference can do so by navigating to Calendar of Events at http://www.ferc.gov. The events will contain a link to the webcast. The Capitol Connection provides technical support for the webcasts and offers the option of listening to the conferences via phone-bridge for a fee. If you have any questions, visit http://www.CapitolConnection.org or call (703) 993-3100. The conferences will not be transcribed.

Interested parties may also participate at the informational conferences by phone. There is no fee to participate by phone, but registration is required. To participate by phone, please complete the teleconference registration form at https://www.ferc.gov/whats-new/registration/trans-plan-9-12-11-form.asp. Dial-in information will be e-mailed to registered teleconference participants. No registration is required to attend the informational conferences in-person or to watch the webcast.

FERC conferences are accessible under section 508 of the Rehabilitation Act of 1973. For accessibility accommodations please send an e-mail to accessibility@ferc.gov or call toll free (866) 208-3372 (voice) or (202) 502-8659 (TTY), or send a fax to (202) 208-2106 with the required accommodations.

For further information about this conference, please contact:

Partha Malvadkar, Office of Energy Market Regulation, (202) 502-6332, partha.malvadkar@ferc.gov.

Zeny Magos, Office of Energy Market Regulation, (202) 502-8244, zeny.magos@ferc.gov.

Dated: August 18, 2011.
Kimberly D. Bose,
Secretary.

[FR Doc. 2011-21801 Filed 8-25-11; 8:45 am]

BILLING CODE 6717-01-P